DEPARTMENT OF HOUSING AND URBAN DEVELOPMENT

[Docket No. FR-4752-D-01]

Redelegation of Fair Housing Act Authority from the General Counsel of Housing and Urban Development

AGENCY: Office of the General Counsel, HUD.

ACTION: Notice of redelegation of Fair Housing Act Authority.

SUMMARY: The General Counsel of the Department of Housing and Urban Development revokes all redelegations of his authority from the Secretary under the Fair Housing Act and redelegates his authority for Fair Housing Act case processing to his field and headquarters staff.

EFFECTIVE DATE: June 3, 2002.

FOR FURTHER INFORMATION CONTACT: Harry L. Carey, Associate General Counsel for Fair Housing, Office of General Counsel, Department of Housing and Urban Development, 451 7th Street, SW., Washington, DC 20410, telephone (202) 708-0570. This is not a toll-free number. This number may be accessed via TTY by calling the Federal Information Relay Service at (800) 877-8339.

SUPPLEMENTARY INFORMATION: On March 30, 1989, the Secretary of Housing and Urban Development delegated his authority to enforce the Fair Housing Act to the General Counsel and the Deputy General Counsel (54 FR 13121). The General Counsel redelegated his authority to his field and headquarters staff on January 12, 1990 (55 FR 1286) and to the Assistant Secretary for Fair Housing and Equal Opportunity on October 24, 1994 (59 FR 53552). In 1994, HUD amended its Fair Housing Act case processing regulations, 24 CFR 103.400, and, in 1996, promulgated Consolidated HUD Hearing Procedures for Civil Rights matters, 24 CFR part 180. The General Counsel hereby revokes the January 12, 1990, the October 24, 1994, and any other redelegations of his authority under the Fair Housing Act. Accordingly, the General Counsel redelegates his authority as set forth in this notice.

Section A. Authority Redelegated

The General Counsel redelegates the authority under the Fair Housing Act for case processing as set forth in 24 CFR part 103 and 24 CFR part 180, with the exception of 24 CFR 180.675 (Petitions for Review), to the Associate General Counsel for Fair Housing and to the Regional Counsel. The Associate General Counsel for Fair Housing retains this authority and further redelegates it to the Assistant General Counsel for Fair Housing Enforcement and the Assistant General Counsel for Fair Housing Compliance.

The General Counsel redelegates his authority under 24 CFR 180.675 (Petitions for Review) to the Associate General Counsel for Fair Housing who retains this authority and further redelegates it to the Assistant General Counsel for Fair Housing Enforcement.

Section B. Further Redelegation of Authority

The Regional Counsel, the Associate General Counsel for Fair Housing, the Assistant General Counsel for Fair Housing Enforcement and the Assistant General Counsel for Fair Housing Compliance may not redelegate the authority set forth in Section A.

Section C. Delegations of Authority Superseded and Revoked

This Delegation of Authority supersedes and revokes all redelegations of the General Counsel's authority for Fair Housing Act case processing.

Authority: Section 7(d), Department of Housing and Urban Development Act (42 U.S.C. 3535(d)).

Dated: June 3, 2002.
Richard A. Hauser,
General Counsel.

[FR Doc. 02-16516 Filed 6-28-02; 8:45 am]

BILLING CODE 4210-67-P